Title 3—

The President

Proclamation 9691 of January 19, 2018

National Sanctity of Human Life Day, 2018

By the President of the United States of America

A Proclamation

Today, we focus our attention on the love and protection each person, born and unborn, deserves regardless of disability, gender, appearance, or ethnicity. Much of the greatest suffering in our Nation's history—and, indeed, our planet's history—has been the result of disgracefully misguided attempts to dehumanize whole classes of people based on these immutable characteristics. We cannot let this shameful history repeat itself in new forms, and we must be particularly vigilant to safeguard the most vulnerable lives among us. This is why we observe National Sanctity of Human Life Day: to affirm the truth that all life is sacred, that every person has inherent dignity and worth, and that no class of people should ever be discarded as “non-human.”

Reverence for every human life, one of the values for which our Founding Fathers fought, defines the character of our Nation. Today, it moves us to promote the health of pregnant mothers and their unborn children. It animates our concern for single moms; the elderly, the infirm, and the disabled; and orphan and foster children. It compels us to address the opioid epidemic and to bring aid to those who struggle with mental illness. It gives us the courage to stand up for the weak and the powerless. And it dispels the notion that our worth depends on the extent to which we are planned for or wanted.

Science continues to support and build the case for life. Medical technologies allow us to see images of the unborn children moving their newly formed fingers and toes, yawning, and even smiling. Those images present us with irrefutable evidence that babies are growing within their mothers' wombs—precious, unique lives, each deserving a future filled with promise and hope. We can also now operate on babies in utero to stave off life-threatening diseases. These important medical advances give us an even greater appreciation for the humanity of the unborn.

Today, citizens throughout our great country are working for the cause of life and fighting for the unborn, driven by love and supported by both science and philosophy. These compassionate Americans are volunteers who assist women through difficult pregnancies, facilitate adoptions, and offer hope to those considering or recovering from abortions. They are medical providers who, often at the risk of their livelihood, conscientiously refuse to participate in abortions. And they are legislators who support health and safety standards, informed consent, parental notification, and bans on late-term abortions, when babies can feel pain. These undeterred warriors, many of whom travel to Washington, DC, every year for the March for Life, are changing hearts and saving lives through their passionate defense of and loving care for all human lives. Thankfully, the number of abortions, which has been in steady decline since 1980, is now at a historic low. Though the fight to protect life is not yet over, we commit to advocating each day for all who cannot speak for themselves.

NOW, THEREFORE, I, DONALD J. TRUMP, President of the United States of America, by virtue of the authority vested in me by the Constitution and the laws of the United States, do hereby proclaim January 22, 2018, as National Sanctity of Human Life Day. I call on all Americans to reflect on the value of our lives; to respond to others in keeping with their inherent dignity; to act compassionately to those with disabilities, infirmities, or frailties; to look beyond external factors that might separate us; and to embrace the common humanity that unites us.

IN WITNESS WHEREOF, I have hereunto set my hand this nineteenth day of January, in the year of our Lord two thousand eighteen, and of the Independence of the United States of America the two hundred and forty-second.

[FR Doc. 2018-01551

Filed 1-24-18; 11:15 am]

Billing code 3295-F8-P